DEPARTMENT OF ENERGY

Proposed Subsequent Arrangement

AGENCY: Office of Nonproliferation and International Security, Department of Energy.

ACTION: Proposed subsequent arrangement.

SUMMARY: This notice is being issued under the authority of section 131a. of the Atomic

Energy Act of 1954, as amended. The Department is providing notice of a proposed subsequent arrangement under the Agreement for Cooperation Between the Government of the United States of America and the Government of the Argentine Republic Concerning Peaceful Uses of Nuclear Energy and the Agreement Between the Government of the United States of America and Australia Concerning Peaceful Uses of Nuclear Energy.

DATES: This subsequent arrangement will take effect no sooner than July 18, 2013.

FOR FURTHER INFORMATION CONTACT: Mr. Sean Oehlbert, Office of Nonproliferation and International Security, National Nuclear Security Administration, Department of Energy. Telephone: 202-586-3806 or email: Sean.Oehlbert@nnsa.doe.gov.

SUPPLEMENTARY INFORMATION: This subsequent arrangement concerns the retransfer of 86 kg of U.S.-origin uranium, 17 kg of which is in the isotope of U-235 (19.74 percent enrichment), in the form of low enriched uranium-silicide Open Pool Australian Lightwater (OPAL) research reactor fuel clad in aluminum, from the Australian Nuclear Science and Technology Organisation (ANSTO) in Lucas Heights, Sydney, Australia, to the Deposito de Materiales Nucleares (DEMANU) and/or Deposito de Uranio Enriquecido (DUE) warehouses of Comision Nacional de Energia Atomica (CNEA) in Buenos Aires, Argentina. The material, which is currently located at ANSTO's OPAL reactor, will be transferred to the CNEA DEMANU and/or DUE warehouses for storage. ANSTO originally obtained the material pursuant to export license XSNM03282, Amendment No. 01, and export license XSNM03348, Amendment No. 01.

In accordance with section 131a. of the Atomic Energy Act of 1954, as amended, it has been determined that this subsequent arrangement concerning the retransfer of nuclear material of United States origin will not be inimical to the common defense and security of the United States.

Dated: June 19, 2013.
For the Department of Energy.
Anne M. Harrington,
Deputy Administrator, Defense Nuclear Nonproliferation.

[FR Doc. 2013-15978 Filed 7-2-13; 8:45 am]

BILLING CODE 6450-01-P